DEPARTMENT OF THE INTERIOR

Bureau of Land Management

[UT-910-00-0777-XQ]

Utah Resource Advisory Council Meeting

SUMMARY: The Bureau of Land Management's Utah Statewide Resource Advisory Council (RAC) will be meeting on August 30, in Provo, Utah.

The purpose of this meeting is to finalize the guidelines for recreation management on BLM lands in Utah.

The meeting will be held at the Provo Marriott Hotel, Maple Room (Mezzanine Level), 101 West 100 North, Provo, Utah. It is scheduled to begin at 8 a.m. and conclude at 4 p.m. A public comment period, where members of the public may address the Council, is scheduled from 1 p.m. to 1:30 p.m. on August 30. All meetings of the BLM's Resource Advisory Council are open to the public.

FOR FURTHER INFORMATION CONTACT: Sherry Foot, Special Programs Coordinator, Utah State Office, Bureau of Land Management, 324 South State Street, Salt Lake City, UT 84111; phone (801) 539-4195.

Dated: August 9, 2000.
Sally Wisely,
Utah BLM State Director.

[FR Doc. 00-20647 Filed 8-14-00; 8:45 am]

BILLING CODE 4310-$$-M